OFFICE OF THE UNITED STATES TRADE REPRESENTATIVE

Andean Trade Preference Act (ATPA), as Amended: Notice Regarding the 2012 Annual Review

AGENCY: Office of the United States Trade Representative

ACTION: Notice.

SUMMARY: The Office of the United States Trade Representative (USTR) received no new petitions in September 2012 to review certain practices in a beneficiary developing country to determine whether such country is in compliance with the ATPA eligibility criteria. USTR received updates related to one matter that is currently under review. This notice specifies the status of the petitions filed in prior years that have remained under review.

FOR FURTHER INFORMATION CONTACT: Bennett M. Harman, Deputy Assistant U.S. Trade Representative for Latin America, at (202) 395-9446.

SUPPLEMENTARY INFORMATION: The ATPA (19 U.S.C. 3201 et seq.), as renewed and amended by the Andean Trade Promotion and Drug Eradication Act of 2002 (ATPDEA) in the Trade Act of 2002 (Pub. L. 107-210) and the “Act to Extend the Andean Trade Preference Act (Pub. L. 110-436), provides trade benefits for eligible Andean countries. Pursuant to section 3103(d) of the ATPDEA, USTR promulgated regulations (15 CFR part 2016) (68 FR 43922) regarding the review of eligibility of countries for the benefits of the ATPA, as amended. The 2012 Annual ATPA Review is the eighth such review to be conducted pursuant to the ATPA regulations.

In a Federal Register notice dated August 10, 2012, USTR initiated the 2012 ATPA Annual Review and announced a deadline of September 17, 2012 for the filing of petitions (77 FR 47910). Chevron submitted information updating the petition it originally filed in 2004, which remains under review. Several U.S. business associations made submissions which referenced the matter already under review in the Chevron case but which did not contain specific information concerning other potential violations of eligibility criteria. Several other interested parties made submissions supporting the program which were not within the scope of the eligibility review.

Following is the list of all petitions from prior years that will remain under review through July 31, 2013, which is the period that the ATPA is in effect:

Ecuador—Human Rights Watch

Ecuador—U.S./Labor Education in the Americas Project

Ecuador—Chevron Texaco.

Douglas Bell,
Assistant U.S. Trade Representative for Trade Policy and Economics.

[FR Doc. 2012-29046 Filed 11-30-12; 8:45 am]

BILLING CODE 3290-F3-P